DEPARTMENT OF THE INTERIOR

Bureau of Reclamation

Fish Passage Improvement Project at the Red Bluff Diversion Dam, Tehama County, CA

AGENCY: Bureau of Reclamation, Interior.

ACTION: Notice of Availability (NOA) of the Draft Environmental Impact Statement/Environmental Impact Report (DEIS/EIR), recirculation of the document.

SUMMARY: The Bureau of Reclamation (Reclamation) and the Tehama-Colusa Canal Authority (TCCA) are re-circulating the DEIS/EIR for the Fish Passage Improvement Project at the Red Bluff Diversion Dam for public review and comment. The document is being re-circulated for any additional comments since it was originally available to the public from August 14 through October 29, 2002, given the length of lapsed time and the recent selection of Alternative 2B as Reclamation's Preferred Alternative. The public comments sent in 2002 are also available although no responses have yet been completed. The final EIS/EIR will be prepared after the end of the new comment period.

DATES: Comments on the DEIS/EIR will be accepted on or before March 16, 2007.

ADDRESSES: Written comments on the DEIS/EIR should be sent to Mr. David Bird, General Manager, Tehama-Colusa Canal Authority, P.O. Box 1025, Willows, CA 95988. Comments may be submitted electronically by e-mailing the project team: dbird@tccanal.com.

A copy of the Executive Summary, DEIS/EIR, and/or technical appendices may be obtained by calling Mr. Bird at the telephone number below.

FOR FURTHER INFORMATION CONTACT: Mr. Paul Freeman, Bureau of Reclamation, telephone: 530-529-3890, fax: 530-529-3895, e-mail: pfreeman@mp.usbr.gov; or Mr. David Bird, Tehama-Colusa Canal Authority, telephone: 530-934-2125, e-mail: dbird@tccanal.com.

SUPPLEMENTARY INFORMATION: Since construction of the Red Bluff Diversion Dam, concern has been expressed regarding the dam's effect on both upstream and downstream fish migration. The dam was built with 11 movable gates. Raising the gates eliminates the dam's effect and allows the river to flow unimpeded. Lowering the dam gates allows for gravity diversion into canals and results in the creation of Lake Red Bluff.

Over the years, the dam gates have been raised more frequently in an attempt to enhance fish passage. Therefore, the ability to divert irrigation water has been gradually decreased from year-round to the current 4-month (gates-in) operations from May 15 to September 14. During the remainder of the year, the dam gates are open, allowing a free flowing, unimpeded river. Detailed studies show the current design of the fish ladders and the operations of the dam gates do not adequately allow passage of all threatened and endangered fish species.

The DEIS/EIR outlines the proposed project alternatives that seek to address issues related to the Red Bluff Diversion Dam, including fish passage and water supply. Current dam operations do not adequately allow passage of threatened and endangered fish species. Additionally, current dam operations limit the dam's capacity to meet the agricultural demand. To address these critical issues, TCCA and Reclamation are working together to determine an appropriate solution.

The project goals are to:

• Substantially improve the long-term reliable level of anadromous fish passage, both upstream and downstream, past the Red Bluff Diversion Dam.

• Substantially improve the long-term ability to reliably and cost-effectively move sufficient water into the Tehama-Colusa Canal and the Corning Canal systems to meet the needs of the water districts served by the TCCA.

The TCCA and Reclamation are working together as “co-lead” agencies on this project to achieve the project purpose and need. However, they are independent agencies with various interests and methods for approaching a project such as this one. Work conducted to date has built upon a wide array of previous studies conducted at the dam.

Through detailed feasibility studies, six alternatives, including the No Action alternative, were created based on various combinations of new facilities and operational changes. These have been created to encompass the range of options available to address the identified water delivery and fish passage issues.

The alternatives identified in the DEIS/EIR are:

No action—The current operating conditions remain the same with a 4-month dam “gates-in,” that creates Lake Red Bluff from May 15 to September 14. The impacts of this option must be studied to a similar level of detail as the others. It is used as a benchmark for comparison of the other alternatives.

1B—4-Month Bypass—This option creates a fish-friendly channel around the dam with sufficient water flow to attract and transport fish moving upstream and deliver juvenile fish moving downstream when the dam gates are lowered in late spring and early fall. Gates would continue to be lowered in the May 15 to September 14 period. A new pumping station would be required to provide reliable agricultural water supply from the river into the water delivery canals.

1A and 2A—Improved fish ladders—These two alternatives are being considered and are aimed at improving the efficiency of the “fish ladders” designed to create a passage for fish to swim around the dam. The design improvements will increase the flow of water through the fish ladders. By increasing the flow, more fish will be attracted to the ladders and successfully pass the dam. The two alternatives differ in the operations of the dam gates. Alternative 1A proposes lowering the dam gates for the current 4-month operation and Alternative 2A for a 2-month operation (July 1 through August 31). A new pumping station would be required to provide reliable agricultural water supply from the river into the water delivery canals under Alternative 2A.

2B—Existing fish ladders with gates up 10 months—Alternative 2B retains the current fish ladders and decreases lowering of the dam gates to 2 months (July 1 through August 31). The source of improved fish passage would be the reduction in gate operations. A new pumping station would be required to provide reliable agricultural water supply from the river into the water delivery canals. Reclamation has identified Alternative 2B as the preferred alternative.

3—Gates out—Alternative 3 keeps the dam gates open year round, creating a free flowing river, unimpeded by the dam. Fish ladders or other bypass options would no longer be necessary and Lake Red Bluff would no longer be created. A new pumping station would be required to provide reliable agricultural water supply from the river into the water delivery canals.

Additional Information

Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: December 28, 2006.
Frank Michny,
Assistant Regional Director, Mid-Pacific Region.

[FR Doc. E7-1405 Filed 1-29-07; 8:45 am]

BILLING CODE 4310-MN-P